DEPARTMENT OF HEALTH AND HUMAN SERVICES

Findings of Research Misconduct

AGENCY: Office of the Secretary, HHS.

ACTION: Notice.

SUMMARY: Findings of research misconduct have been made on the part of Bhagavathi Narayanan, Ph.D., former Research Associate Professor, Department of Environmental Medicine, New York University (NYU). Dr. Narayanan engaged in research misconduct in research supported by National Cancer Institute (NCI), National Institutes of Health (NIH), grants R03 CA107813, R01 CA106296, R01 CA106296-05S1, R03 CA133929, and P30 CA017613. The administrative actions, including debarment for a period of three (3) years, were implemented beginning on February 26, 2018, and are detailed below.

FOR FURTHER INFORMATION CONTACT: Wanda K. Jones, Dr. P.H., Interim Director, Office of Research Integrity, 1101 Wootton Parkway, Suite 750, Rockville, MD 20852, (240) 453-8200.

SUPPLEMENTARY INFORMATION: Notice is hereby given that the Office of Research Integrity (ORI) has taken final action in the following case:

Bhagavathi Narayanan, Ph.D., New York University: Based on the report of an investigation conducted by NYU and analysis conducted by ORI in its oversight review, ORI found that Dr. Bhagavathi Narayanan, former Research Associate Professor, Department of Environmental Medicine, NYU, engaged in research misconduct in research supported by NCI, NIH, grants R03 CA107813, R01 CA106296, R01 CA106296-05S1, R03 CA133929, and P30 CA017613.

ORI found that Respondent engaged in research misconduct by knowingly and intentionally falsifying and/or fabricating data reported in the following three (3) published papers and seven (7) grant applications submitted to NIH:

• Clin. Cancer Res. 9:3503-3513, 2003 (hereafter referred to as “Clin. Cancer Res. 2003”)

• Anticancer Res. 31(12):4347-4358, 2011 (hereafter referred to as “Anticancer Res. 2011”)

• Int. J. Oncol. 40:13-20, 2012 (hereafter referred to as “Int. J. Oncol. 2012”)

• R01 CA163381-01

• R01 CA138741-01A1

• R01 CA106296-06A1

• R01 CA106296-06A2

• R03 CA158253-01A1

• R21 CA170314-01

• R01 ES024139-01

ORI found that Respondent fabricated and/or falsified Western blot data for protein expression levels in cancer tissues and/or cells in fifty-eight (58) blot panels included in twenty-two (22) figures reported in three (3) papers and seven (7) grant applications submitted to NIH. In the absence of valid Western blot images, the quantitative data presented in associated bar graphs and statistical analyses also are false.

Specifically, Respondent trimmed and/or copied Western blot images from unrelated sources, manipulated them to obscure their origin, and reused and relabeled them to represent different experimental results in:

• Figures 5C, 6C, and 7C in Clin. Cancer Res. 2003

• Figures 2c, 4b, 6a, and 6b in Int. J. Oncol. 2012

• Figure 2B in Anticancer Res. 2011, also as Figure 1C in R01 CA163381-01

• Figure 2A in Anticancer Res. 2011, also as Figure 1B in R01 CA163381-01

• Figure 5D in Anticancer Res. 2011, also as Figure 8 in R01 CA163381-01

• Figure 1A in R01 CA163381-01

• Figure 6 in R01 CA138741-01A1

• Figure 4 in R01 CA106296-06A1

• Figure 4 in R01 CA106296-06A2

• Figures 3 and 6 in R03 CA158253-01A1

• Figures 3 and 4 in R21 CA170314-01

• Figures 8A and 8B in R01 ES024139-01

Dr. Narayanan entered into a Voluntary Exclusion Agreement and voluntarily agreed, beginning on February 26, 2018:

(1) To exclude herself for a period of three (3) years from any contracting or subcontracting with any agency of the United States Government and from eligibility or involvement in nonprocurement programs of the United States Government referred to as “covered transactions” pursuant to HHS' Implementation (2 CFR part 376) of OMB Guidelines to Agencies on Governmentwide Debarment and Suspension, 2 CFR part 180 (collectively the “Debarment Regulations”);

(2) to exclude herself voluntarily from serving in any advisory capacity to the U.S. Public Health Service (PHS) including, but not limited to, service on any PHS advisory committee, board, and/or peer review committee, or as a consultant for a period of three (3) years; and

(3) as a condition of the Agreement, to the retraction of Anticancer Res. 31(12):4347-4358, 2011 (PMID: 22199300), and will request that this paper be retracted.

Wanda K. Jones,
Interim Director, Office of Research Integrity.

[FR Doc. 2018-05774 Filed 3-21-18; 8:45 am]

BILLING CODE 4150-31-P